DEPARTMENT OF COMMERCE

National Oceanic and Atmospheric Administration

[I.D. 022305F]

North Pacific Fishery Management Council; Public Meeting

AGENCY: National Marine Fisheries Service (NMFS), National Oceanic and Atmospheric Administration (NOAA), Commerce.

ACTION: Notice of a public meeting. of the North Pacific Fishery Management Council's Non-Target Species Committee.

SUMMARY: The North Pacific Fishery Management Council's (Council) Non-Target Species Committee will meet at the Alaska Fishery Science Center (AFSC).

DATES: The meeting will be held on March 14, 2005, from 10:30 a.m. to 4:30 p.m. and March 15, 2005, from 9 a.m. to 4:30 p.m.

ADDRESSES: The meeting will be held at the AFSC, 7600 Sand Point Way North East, Building 4, Room 2143, Seattle, WA 98115.

Council address: North Pacific Fishery Management Council, 605 W. 4th Avenue, Suite 306, Anchorage, AK 99501-2252.

FOR FURTHER INFORMATION CONTACT: Jane DiCosimo, Council staff, telephone: (907) 271-2809.

SUPPLEMENTARY INFORMATION: The committee will: (1) review and provide comments on a discussion paper to separate the Gulf of Alaska and Bering Sea and Aleutian Islands other species category into squid, shark, skate, sculpins, and octopus groups for total allowable catch setting; (2) draft a problem statement for (target and non-target) rockfish management; and (3) draft an outline for a discussion paper to address problem(s) in the rockfish fisheries. The committee will report to the Council at the April 2005 Council meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Gail Bendixen at (907) 271-2809 at least 7 working days prior to the meeting date.

Dated: February 24, 2005
Peter H. Fricke,
Acting Director, Office of Sustainable Fisheries, National Marine Fisheries Service.

[FR Doc. 05-3939 Filed 2-28-05; 8:45 am]

BILLING CODE 3510-22-S